DEPARTMENT OF HEALTH AND HUMAN SERVICES

Centers for Disease Control and Prevention

Mine Safety and Health Research Advisory Committee (MSHRAC)

AGENCY: Centers for Disease Control and Prevention (CDC), Department of Health and Human Services (HHS).

ACTION: Notice of meeting.

SUMMARY: In accordance with the Federal Advisory Committee Act, the CDC announces the following meeting for the Mine Safety and Health Research Advisory Committee (MSHRAC). This is a virtual meeting. It is open to the public, limited only by web conference lines (500 web conference lines are available). If you wish to attend, please contact Marie Chovanec by email at MChovanec@cdc.gov or by telephone at 412-386-5302 at least 5 business days in advance of the meeting. She will provide you the Zoom web conference access.

DATES: The meeting will be held on November 9, 2020, from 10:00 a.m. to 2:30 p.m., EST.

ADDRESSES: This is a virtual meeting.

FOR FURTHER INFORMATION CONTACT: George W. Luxbacher, Designated Federal Officer, MSHRAC, NIOSH, CDC, 2400 Century Parkway NE, Atlanta, GA 30345, telephone 404-498-2808; email gluxbacher@cdc.gov.

SUPPLEMENTARY INFORMATION:

Purpose: This committee is charged with providing advice to the Secretary, Department of Health and Human Services; the Director, CDC; and the Director, NIOSH, on priorities in mine safety and health research, including grants and contracts for such research, 30 U.S.C. 812(b)(2), Section 102(b)(2).

Matters To Be Considered: The agenda will include discussions on mining safety and health research projects and outcomes, including COVID-19 impact on research, funded projects, presentations, guidelines; Office of Mine Safety and Health Research (OMSHR) reshaping status; FY21 new mining projects and redesigning research; lighting research; update on MINER Act extramural research; and mining-related suicides. The meeting will also include an update from the NIOSH Associate Director for Mining. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-21034 Filed 9-23-20; 8:45 am]

BILLING CODE 4163-18-P